DEPARTMENT OF HEALTH AND HUMAN SERVICES

Centers for Disease Control and Prevention

Draft National Conversation on Public Health and Chemical Exposures Work Group Reports; Opportunity for Public Comment

AGENCY: Centers for Disease Control and Prevention and Agency for Toxic Substances and Disease Registry (CDC/ATSDR), Department of Health and Human Services (HHS).

ACTION: Notice with comment period.

SUMMARY: The National Conversation on Public Health and Chemical Exposures is a collaborative initiative through which many organizations and individuals are helping develop an action agenda for strengthening the nation's approach to protecting the public's health from harmful chemical exposures. This notice announces the availability of draft National Conversation work group reports for public review and comment. CDC/ATSDR has partnered with RESOLVE, a non-profit independent consensus-building organization, to manage aspects of the National Conversation project. RESOLVE is convening the National Conversation Leadership Council and facilitating the work group process.

DATES: Draft work group reports will be available on or about September 7, 2010. In order to be considered, comments must be received within 14 days of the reports being posted. The public comment period is anticipated to close September 20, 2010. Comments received after the close of the comment period will be considered to the fullest extent possible.

ADDRESSES: Draft work group reports will be available on RESOLVE's Web site at http://www.resolv.org/nationalconversation. Those interested in submitting comments are encouraged to submit them through that Web site. Comments can also be submitted by e-mail to nccomments@resolv.org. Please indicate in the e-mail subject line the name of the work group report that your comments address (e.g. “Comments on Monitoring Work Group Report”). Comments can be submitted by mail to National Conversation c/o RESOLVE, Inc. 1255 23rd Street, NW., Suite 875, Washington, DC 20037 or by fax attention to Jason Gershowitz at 202-338-1264.

FOR FURTHER INFORMATION CONTACT: Please direct questions about the National Conversation project to CDC/ATSDR by e-mail at nationalconversation@cdc.gov, phone at 770-488-0604, or mail at National Conversation, CDC/ATSDR, 4770 Buford Hwy, NE., MS F-61, Atlanta, GA 30341.

SUPPLEMENTARY INFORMATION: The National Conversation project includes a Leadership Council, which will author the action agenda, and six work groups, formed to research and make recommendations on the following cross-cutting public health and chemical exposures issues:

• Monitoring

• Scientific Understanding

• Policies and Practices

• Chemical Emergencies

• Serving Communities

• Education and Communication

Following the public comment period, National Conversation work groups will finalize their reports during the fall of 2010. The National Conversation Leadership Council will draw on work group reports and the results of public input received through Web dialogues, community conversations, and stakeholder forums in authoring the action agenda. The Leadership Council's draft action agenda is anticipated to be available for public review and comment in December 2010. Work group reports will be appended to the action agenda.

For more information on National Conversation work groups, including their charges and meeting summaries, visit this Web site: http://www.atsdr.cdc.gov/nationalconversation/work_groups.html.

For additional information on the National Conversation on Public Health and Chemical Exposures, visit this Web site: http://www.atsdr.cdc.gov/nationalconversation/.

Dated: August 18, 2010.
Tanja Popovic,
Deputy Associate Director for Science Centers for Disease Control and Prevention.

[FR Doc. 2010-21120 Filed 8-24-10; 8:45 am]

BILLING CODE 4163-18-P